DEPARTMENT OF AGRICULTURE

National Institute of Food and Agriculture

Solicitation of Input From Stakeholders Regarding the Agriculture and Food Research Initiative

AGENCY: National Institute of Food and Agriculture, USDA.

ACTION: Notice of public meeting and request for stakeholder input.

SUMMARY: In Fiscal Year 2009, the National Institute of Food and Agriculture (NIFA), created a new research, education, and extension program called the Agriculture and Food Research Initiative (AFRI), pursuant to the requirements of section 7406 of the Food, Conservation, and Energy Act of 2008. In September of 2008 and June of 2010, NIFA solicited public comment from persons who use or conduct research, extension, or education regarding the implementing regulation to be developed for this new program. In addition, NIFA published an Interim Final Rule with request for comments regarding program-specific administrative provisions for the AFRI as subpart G of 7 CFR 3430, Competitive and Noncompetitive Non-Formula Federal Assistance Programs—General Award Administrative Provisions and Specific Administrative Provisions in the Federal Register on September 9, 2010 [75 FR 54759-54766]. It is anticipated that the Final Rule will be published in the Federal Register with request for comments within 90 days of this Federal Register notice.

In an effort to improve the quality of the AFRI program, NIFA is again holding a public meeting and soliciting public comments for consideration in the development of the Fiscal Year (FY) 2013 AFRI program solicitations and the FY 2014 Budget. All written comments received prior to the AFRI Listening Session on February 22, 2012, may be utilized in a question and response document and/or responded to during the session held on February 22, 2012 based on the applicability of the comment to the general population of AFRI stakeholders. However, all comments must be received by close of business on March 22, 2012, to be considered in the initial drafting of FY 2013 AFRI program solicitation documents.

DATES: The meeting will be held on Wednesday, February 22, 2012, from 8 a.m. to 5 p.m., Eastern Standard Time (EST). All written comments must be received by 5 p.m. EST on Thursday, March 22, 2012.

ADDRESSES: The meeting will be held in room 1410A-D, Waterfront Centre Building, National Institute of Food and Agriculture, United States Department of Agriculture, 800 9th Street SW., Washington, DC 20024. Meeting participants will need to provide photo identification to be admitted to the building. Please allow sufficient time to go through security.

You may submit comments, identified by NIFA-2012-0004, by any of the following methods:

Federal eRulemaking Portal: http://www.regulations.gov. Follow the instructions for submitting comments.

Email: AFRI@nifa.usda.gov. Include NIFA-2012-0004 in the subject line of the message.

Fax: (202) 401-6488.

Mail: Paper, disk or CD-ROM submissions should be submitted to AFRI; Institute of Food Production and Sustainability (IFPS), National Institute of Food and Agriculture, U.S. Department of Agriculture, STOP 2220, 1400 Independence Avenue SW., Washington, DC 20250-2220.

Hand Delivery/Courier: AFRI, IFPS, National Institute of Food and Agriculture, U.S. Department of Agriculture, Room 3444, Waterfront Centre, 800 9th Street, SW., Washington, DC 20024.

Instructions: All submissions received must include the agency name and reference to NIFA-2012-0004. All comments received will be posted to http://www.regulations.gov, including any personal information provided.

FOR FURTHER INFORMATION CONTACT: Ms. Terri Joya, (202) 401-1282 (phone), (202) 401-6488 (fax), or tjoya@nifa.usda.gov.

SUPPLEMENTARY INFORMATION:

Additional Meeting and Comment Procedures

Persons wishing to present oral comments at the Wednesday, February 22, 2012 meeting are requested to pre-register by contacting Ms. Terri Joya at (202) 401-1282, by fax at (202) 401-6488 or by email to tjoya@nifa.usda.gov. Participants may reserve one 5-minute comment period. More time may be available, depending on the number of people wishing to make a presentation and the time needed for questions following presentations. Reservations will be confirmed on a first-come, first-served basis. All other attendees may register at the meeting. Written comments may also be submitted for the record at the meeting. All comments must be received by close of business March 22, 2012, to be considered. All comments and the official transcript of the meeting, when they become available, may be reviewed on the NIFA Web page, http://www.nifa.usda.gov/funding/afri/afri_listen_session.html, for six months. Participants who require a sign language interpreter or other special accommodations should contact Ms. Joya as directed above.

Additional Program-specific webinars will occur after the public meeting to obtain public comments for use in developing the following activities: Foundational priority areas; Childhood Obesity Prevention; Climate Change; Food Safety; Global Food Security; Sustainable Bioenergy; and NIFA Fellowships Grant Program. The date and time for each webinar will be posted to the following URL: http://www.nifa.usda.gov/funding/afri/afri_faq_webinars.html.

Background and Purpose

Section 7406 of the Food, Conservation, and Energy Act of 2008 (Pub. L. 110-246) (i.e., the 2008 Farm Bill) amends subsection (b) of the Competitive, Special, and Facilities Research Grant Act (7 U.S.C. 450i(b)) to authorize the Secretary of Agriculture to establish a new competitive grant program to provide funding for fundamental and applied research, extension, and education to address food and agricultural sciences. AFRI supersedes the National Research Initiative. AFRI Grants shall be awarded to address priorities in United States agriculture in the following areas: (A) Plant health and production and plant products; (B) Animal health and production and animal products; (C) Food safety, nutrition, and health; (D) Renewable energy, natural resources, and environment; (E) Agriculture systems and technology; and (F) Agriculture economics and rural communities.

To the maximum extent practicable, NIFA, in coordination with the Under Secretary for Research, Education, and Economics (REE), will make grants for high priority research, education, and extension, taking into consideration, when available, the determinations made by the National Agricultural Research, Extension, Education, and Economics Advisory Board. The authority to carry out this program has been delegated to NIFA through the Undersecretary for REE.

The program authorizes grants for FY 2009-12, of which the Secretary may retain no more than 4 percent for administrative costs. Funds will be available for obligation for a two-year period beginning in the fiscal year for which funds are first made available. Grants will be awarded on the basis of merit, quality, and relevance and may have terms of up to 10 years.

Subject to the availability of appropriations to carry out the AFRI program, the Secretary may award grants to State agricultural experiment stations; colleges and universities; university research foundations; other research institutions and organizations; Federal agencies; national laboratories; private organizations or corporations; individuals; or any group consisting of two or more of the aforementioned entities. Please see the details in the Request for Applications.

NIFA is holding a public meeting to obtain comments to consider in developing the Fiscal Year 2013 solicitations for the AFRI competitive grants program. The meeting is open to the public. Written comments and suggestions on issues that may be considered in the meeting may be submitted to the NIFA Docket Clerk at the address above.

Implementation Plans

NIFA plans to consider stakeholder input received from this public meeting as well as other written comments in developing the Fiscal Year 2013 solicitations for this program.

Done at Washington, DC, this 25th day of January 2012.
Chavonda Jacobs-Young,
Acting Director National Institute of Food and Agriculture.

[FR Doc. 2012-2100 Filed 1-31-12; 8:45 am]

BILLING CODE 3410-22-P